DEPARTMENT OF TRANSPORTATION

Federal Aviation Administration

14 CFR Part 39

[Docket No. 2004-CE-09-AD; Amendment 39-13587; AD 2004-08-17]

RIN 2120-AA64

Airworthiness Directives; Cessna Aircraft Company Models 208 and 208B Airplanes

AGENCY: Federal Aviation Administration (FAA), DOT.

ACTION: Final rule; request for comments.

SUMMARY: The FAA is adopting a new airworthiness directive (AD) for certain Cessna Aircraft Company (Cessna) Models 208 and 208B airplanes. This AD requires you to inspect any upper and lower wing strut attach fitting nut for existence of the corresponding cotter pin and do any necessary corrective action. This AD is the result of a report of one airplane having loose and improperly tied nuts on the wing struts upper attachment bolts. We are issuing this AD to detect and correct loose and improperly tied nuts on the wing struts, which could result in an attachment nut coming off the bolt. This could lead to the failure of the wing structure with consequent loss of control of the airplane.

DATES: This AD becomes effective on May 17, 2004.

As of May 17, 2004, the Director of the Federal Register approved the incorporation by reference of certain publications listed in the regulation.

We must receive any comments on this AD by June 22, 2004.

ADDRESSES: Use one of the following to submit comments on this AD:

• By mail: FAA, Central Region, Office of the Regional Counsel, Attention: Rules Docket No. 2004-CE-09-AD, 901 Locust, Room 506, Kansas City, Missouri 64106.

• By fax: (816) 329-3771.

• By e-mail: 9-ACE-7-Docket@faa.gov. Comments sent electronically must contain “Docket No. 2004-CE-09-AD” in the subject line. If you send comments electronically as attached electronic files, the files must be formatted in Microsoft Word 97 for Windows or ASCII.

You may get the service information identified in this AD from Cessna Aircraft Company, Product Support, PO Box 7706, Wichita, Kansas 67277; telephone: (316) 517-5800; facsimile: (316) 942-9006.

You may view the AD docket at FAA, Central Region, Office of the Regional Counsel, Attention: Rules Docket No. 2004-CE-09-AD, 901 Locust, Room 506, Kansas City, Missouri 64106. Office hours are 8 a.m. to 4 p.m., Monday through Friday, except Federal holidays.

FOR FURTHER INFORMATION CONTACT: Paul Nguyen, Aerospace Engineer, FAA, Wichita Aircraft Certification Office ACO, 1801 Airport Road, Room 100, Wichita, Kansas 67209; telephone: 316-946-4125; facsimile: 816-946-4107.

SUPPLEMENTARY INFORMATION: What events have caused this AD? The FAA has received a report of a Cessna Model 208 airplane having loose and improperly tied nuts on the wing struts upper attachment bolts.

A review of Cessna's manufacturing records shows that 15 Models 208 and 208B airplanes could have this condition.

What is the potential impact if FAA took no action? Loose and improperly tied nuts on the wing struts upper attachment bolts could lead to the failure of the wing structure with consequent loss of control of the airplane.

Is there service information that applies to this subject? Cessna has issued Special Service Project No. SSP04-2, dated April 5, 2004.

What are the provisions of this service information? This service information includes procedures for:

—Inspecting any upper wing strut attach fitting part number (P/N) MS17826-14 nut for the P/N MS24665-360 cotter pin and any lower wing strut attach fitting P/N MS17826-12 nut for the P/N MS24665-357 cotter pin;

—Tightening the nut and aligning the castellations of the corresponding P/N MS17826-14 or P/N MS17826-12 nut and the cotter pin hole in the bolt if any P/N MS24665-360 or P/N MS24665-357 cotter pin is not installed; and

—Installing the corresponding P/N MS24665-360 or P/N MS24665-357 cotter pin.

FAA's Determination and Requirements of the AD

What has FAA decided? We have evaluated all pertinent information and identified an unsafe condition that is likely to exist or develop on other products of this same type design.

Since the unsafe condition described previously is likely to exist or develop on other Cessna Models 208 and 208B airplanes of the same type design, we are issuing this AD to detect and correct loose and improperly tied nuts on the wing struts, which could result in an attachment nut coming off the bolt. This could lead to the failure of the wing structure with consequent loss of control of the airplane.

What does this AD require? This AD requires you to incorporate the actions in the previously-referenced service information.

In preparing this rule, we contacted type clubs and aircraft operators to get technical information and information on operational and economic impacts. We did not receive any information through these contacts. If received, we would have included a discussion of any information that may have influenced this action in the rulemaking docket.

How does the revision to 14 CFR part 39 affect this AD? On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Comments Invited

Will I have the opportunity to comment before you issue the rule? This AD is a final rule that involves requirements affecting flight safety and was not preceded by notice and an opportunity for public comment; however, we invite you to submit any written relevant data, views, or arguments regarding this AD. Send your comments to an address listed under ADDRESSES. Include “AD Docket No. 2004-CE-09-AD” in the subject line of your comments. If you want us to acknowledge receipt of your mailed comments, send us a self-addressed, stamped postcard with the docket number written on it; we will date-stamp your postcard and mail it back to you. We specifically invite comments on the overall regulatory, economic, environmental, and energy aspects of the rule that might suggest a need to modify it. If a person contacts us through a nonwritten communication, and that contact relates to a substantive part of this AD, we will summarize the contact and place the summary in the docket. We will consider all comments received by the closing date and may amend the AD in light of those comments.

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2004-CE-09-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2004-08-17 Cessna Aircraft Company: Amendment 39-13587; Docket No. 2004-CE-09-AD.

When Does This AD Become Effective?

(a) This AD becomes effective on May 17, 2004.

Are Any Other ADs Affected By This Action?

(b) None.

What Airplanes Are Affected by This AD?

(c) This AD affects the following airplane models and serial numbers that are certificated in any category:

Model | Serial Numbers
208 | 20800370 and 20800371.
208B | 208B1034 through 208B1043, 208B1045, 208B1046, and 208B1048.

What Is the Unsafe Condition Presented in This AD?

(d) This AD is the result of a report of one airplane having loose and improperly tied nuts on the wing struts upper attachment bolts. We are issuing this AD to detect and correct loose and improperly tied nuts on the wing struts, which could result in an attachment nut coming off the bolt. This could lead to the failure of the wing structure with consequent loss of control of the airplane.

What Must I do To Address This Problem?

(e) To address this problem, you must do the following:

Actions | Compliance | Procedures
(1) Inspect any upper wing strut attach fitting part number (P/N) MS17826-14 nut for the P/N MS24665-360 cotter pin and any lower wing strut attach fitting P/N MS17826-12 nut for the P/N MS24665-357 cotter pin | Within the next 10 hours time-in-service (TIS) after May 14, 2004, the effective date of this AD, unless already done | Follow Cessna Special Service Project No. SSP04-2, dated April 5, 2004. The applicable airplane maintenance manual also addresses this issue.
(2) If any P/N MS24665-360 or P/N MS24665-357 cotter pin is not installed: (i) tighten the corresponding nut (P/N MS17826-14 or P/N MS17826-12) and align the castellations of the nut and the cotter pin hole in the bolt; and (ii) install the corresponding P/N MS24665-360 or P/N MS24665-357 cotter pin | Before further flight after the inspection in paragraph (e)(1) of this AD | Follow Cessna Special Service Project No. SSP04-2, dated April 5, 2004. The applicable airplane maintenance manual also addresses this issue.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact Paul Nguyen, Aerospace Engineer, FAA, Wichita ACO, 1801 Airport Road, Room 100, Wichita, Kansas 67209; telephone: 316-946-4125; facsimile: 816-946-4107.

Does This AD Incorporate Any Material by Reference?

(g) You must do the actions required by this AD following the instructions in Cessna Special Service Project No. SSP04-2, dated April 5, 2004. The Director of the Federal Register approved the incorporation by reference of this service bulletin in accordance with 5 U.S.C. 552(a) and 1 CFR part 51. You may get a copy from Cessna Aircraft Company, Product Support, PO Box 7706, Wichita, Kansas 67277; telephone: (316) 517-5800; facsimile: (316) 942-9006. You may review copies at FAA, Central Region, Office of the Regional Counsel, 901 Locust, Room 506, Kansas City, Missouri 64106; or at the Office of the Federal Register, 800 North Capitol Street, NW, suite 700, Washington, DC.

Issued in Kansas City, Missouri, on April 16, 2004.
James E. Jackson,
Acting Manager, Small Airplane Directorate, Aircraft Certification Service.

[FR Doc. 04-9115 Filed 4-23-04; 8:45 am]

BILLING CODE 4910-13-P